DEPARTMENT OF HEALTH AND HUMAN SERVICES

Centers for Disease Control and Prevention

Disease, Disability, and Injury Prevention and Control Special Emphasis Panels (SEP): Increasing Adolescent Immunization Coverage in School-Based Health Centers, Request for Applications (RFA) IP 06-003, and Feasibility of Delivering New Adolescent Vaccines in Complementary Health Care Settings, RFA IP 06-004

In accordance with Section 10(a)(2) of the Federal Advisory Committee Act (Pub. L. 92-463), the Centers for Disease Control and Prevention (CDC) announces the following meeting:

Name: Disease, Disability, and Injury Prevention and Control Special Emphasis Panel (SEP): Increasing Adolescent Immunization Coverage in School-Based Health Centers, RFA IP 06-003, and Feasibility of Delivering New Adolescent Vaccines in Complementary Health Care Settings, RFA IP 06-004.

Time and Date: 1 p.m.-4 p.m., July 7, 2006 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: “Increasing Adolescent Immunization Coverage in School-Based Health Centers,” RFA IP 06-003, and “Feasibility of Delivering New Adolescent Vaccines in Complementary Health Care Settings,” RFA IP 06-004. Due to programmatic matters, this Federal Register Notice is being published on less than 15 calendar days notice to the public (41 CFR 102-3.150(b)).

For Further Information Contact: Felix Rogers, M.P.H., PhD, Scientific Review Administrator, Office of Extramural Research, CDC, 1600 Clifton Road NE., Mailstop D72, Atlanta, GA 30333, Telephone 404-639-6101.

The Director, Management Analysis and Services Office, has been delegated the authority to sign Federal Register notices pertaining to announcements of meetings and other committee management activities, for both CDC and the Agency for Toxic Substances and Disease Registry.

Dated: June 22, 2006.
Alvin Hall,
Director, Management Analysis and Services Office, Centers for Disease Control and Prevention.

[FR Doc. 06-5972 Filed 6-30-06; 8:45 am]

BILLING CODE 4163-18-P